DEPARTMENT OF AGRICULTURE

Forest Service

Proposed Porcupine Pass East, Nine Allotment Grazing Analysis Caribou-Targhee National Forest, Clark County, ID

AGENCY: Forest Service, USDA.

ACTION: Notice of intent to prepare Environmental Impact Statement.

SUMMARY: The USDA Forest Service will prepare an Environmental Impact Statement to document the analysis and disclose the environmental impacts of proposed actions to graze livestock on grazing allotments of east of Porcupine Pass on the Dubois Ranger District of the Caribou-Targhee National Forest, Clark County, Idaho. The proposed project is located on all Sections of Forest System lands within Townships 12, 13, and 14 North, Ranges 37, 38, and 39 East, Boise Meridian, Clark County, Idaho. The Dubois Ranger District of the Caribou-Targhee National Forest proposes to analyze livestock grazing activities on nine allotments. The following table shows the current permitted use on each allotment:

Allotment | Permitted use | Season of use | ¹ Grazing system
Alex Draw—Threemile C&H | 220 cow/calves | 6/16-9/15 | 4 Unit Deferred Rotation.
Corral-Crab Creek S&G | 1000 ewe/lambs and 2 horses | 6/16-9/15 | Deferred Rotation.
Pete-Stump Creek S&G | 1000 ewe/lambs and 2 horses | 7/1-9/15 | Deferred Rotation.
Table Mountain S&G | 1000 ewe/lambs and 2 horses | 7/6-9/10 | Deferred Rotation.
West Camas C&H | 908 cow/calves | 6/26-10/15 | 4 Unit Deferred Rotation.
Rattlesnake S&G | 761 ewe/lambs and 2 horses | 6/16-8/31 | Deferred Rotation.
East Camas C&H | 71 cow/calf | 7/1-9/30 | 2 Unit Deferred Rotation.
Cottonwood-East Camas S&G | 1000 ewe/lambs and 2 horses | 7/1-9/25 | Deferred Rotation.
Ching Creek S&G | 750 ewe/lambs and 2 horses | 7/1-8/31 | Deferred Rotation.
¹ A deferred rotation grazing system provides deferred grazing in two or more units or pastures on a systematic basis.

The purpose of this project is to comply with Public Law 104-19 (1995). Section 504 of the law requires that the Forest Service conduct an analysis on all allotments where the livestock grazing that is authorized has not been analyzed in compliance with the National Environmental Policy Act (NEPA) of 1969.

The need of this proposed action is to continue to provide forage for livestock of local livestock producers to meet the Desired Future Condition for production of commodity resources as stated in the Revised Targhee Forest Plan (RFP) II-3. “Commodity production, such as * * * livestock forage * * * are conducted at sustainable levels and maintain the capability of the land to produce an even flow and variety of goods and services for present and future generations. Forest products are provided to sustain social and economic values and needs of the local communities within limits which maintain ecosystem health.”

The RFP designates each of the 9 allotments in this project area as open to domestic livestock grazing. The Revised Forest Plan also provides specific direction, standards and guidelines for managing livestock grazing. These standards and guidelines are currently included in the permits to graze livestock on the allotments and will continue to be part of each allotments' management.

The issues identified during scoping and the analysis process will determine alternatives to the proposed action. The no action alternative will be analyzed.

DATES: Written comments concerning the scope of the analysis described in this Notice should be received with 30 days of the date of publication of this Notice in the Federal Register. No scoping meetings are planned at this time. Information received will be used in preparation of the draft EIS and final EIS.

ADDRESSES: Send written comments to Caribou-Targhee National Forest, Dubois Ranger District, P.O. Box 46, Dubois, Idaho 83423.

FOR FURTHER INFORMATION CONTACT: Questions concerning the proposed action and EIS should be directed to Shane Jacobson, Caribou-Targhee National Forest, Dubois Ranger District, 225 West Main Street, P.O. Box 46, Dubois, Idaho 83423 (Telephone: (208) 374-5422.)

SUPPLEMENTARY INFORMATION: The Forest Service is seeking information and comments from Federal, State and local agencies, as well as individuals and organizations that may be interested in, or affected by the proposed action. The Forest Service invites written comments and suggestions on the issues related to the proposal and the area being analyzed.

The responsible official is Robbert G. Mickelsen, District Ranger, Caribou-Targhee National Forest, P.O. Box 46, Dubois, Idaho 83423.

The decision to be made is to decide whether to continue the present course of action (the no action alternative) or to implement the proposed action with applicable mitigation measures, or to implement an alternative to the proposed action with its applicable mitigation measures.

The tentative date for filing the Draft EIS is 31 December 2004. The tentative date for filing the final EIS is 1 April 2005. The comment period on the draft environmental impact statement will be open for 45 days from the date the Environmental Protection Agency publishes the notice of availability in the Federal Register.

The Forest Service believes, at this early stage, it is important to give viewers notice of several court rulings related to public participation in the environmental review process. First, reviewers of draft environmental impact statements must structure their participation in the environmental review of the proposal so that it is meaningful and alert an agency to the reviewer's position and contentions. Vermont Yankee Nuclear Power Corp. v. NRDC, 435 U.S. 519, (1978). Also, environmental objections that could be raised at the draft impact statement stage but are not raised until after completion of the final environmental impact statement may be waived or dismissed by the courts. City of Angoon v. Hodel, 803 F2d 1016, 1022 (9th Cir. 1986) and Wisconsin Heritages, Inc. v. Harris, 490 F. Supp. 1334, 1338 (E.D. Wis. 1980). Because of these court rulings, it is very important that those interested in this proposed action participate by the close of the 45-day comment period of the Draft Environmental Impact statement so that substantive comments and objections are made available to the Forest Service at a time when it can meaningfully consider them and respond to them in the Final Environmental Impact Statement. Agency representatives and other interested people are invited to visit with Forest Service officials at any time during the EIS process.

To assist the Forest Service in identifying and considering issues and concerns on the proposed action, comments on the Draft Environmental Impact Statement should be as specific as possible. It is also helpful if comments refer to specific pages or chapters of the Draft. Comments may also address the adequacy of the Draft Environmental Impact Statement or the merits of the alternatives formulated and discussed in the statement. Reviewers may wish to refer to the Council on Environmental Quality Regulations for implementing the procedural provisions of the National Environmental Policy Act at 40 CFR 1503.3 in addressing these points. Comments received in response to this solicitation, including names and addresses of those who comment, will be considered part of the public record on this proposed action and will be available for public inspection. Comments submitted anonymously will be accepted and considered; however, those who submit anonymous comments will not have standing to appeal the subsequent decision under 36 CFR 215 or 217. Additionally, pursuant to 7 CFR 1.27(d), any person may request the agency to withhold a submission from the public record by showing how the Freedom of Information Act (FOIA) permits such confidentiality. Persons requesting such confidentially should be aware that, under the FOIA, confidentially may be granted in only limited circumstances, such as to protect trade secrets. The Forest Service will inform the requester of the agency's decision regarding the request for confidentially, and if the request is denied; the agency will return the submission and notify the requester that the comments may be resubmitted with or without name and address within 10 days.

Dated: August 23, 2004.
Robbert G. Mickelsen,
District Ranger, Dubois Ranger District, Caribou-Targhee National Forest, Intermountain Region, USDA Forest.

[FR Doc. 04-20228 Filed 9-3-04; 8:45 am]

BILLING CODE 3410-11-M